DEPARTMENT OF STATE

[Public Notice 8458]

30-Day Notice of Proposed Information Collection: U.S. Passport Renewal Application for Eligible Individuals

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this notice is to allow 30 days for public comment.

DATES: Submit comments directly to the Office of Management and Budget (OMB) up to October 10, 2013.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: (202) 395-5806. Attention: Desk Officer for Department of State.

FOR FURTHER INFORMATION CONTACT: Direct requests for additional information regarding the collection listed in this notice, including requests for copies of the proposed collection instrument and supporting documents, to U.S. Department of State, Bureau of Consular Affairs, Passport Services, Office of Program Management and Operational Support, 2201 C Street NW., Washington, DC 20520, who may be reached on (202) 485-6510 or at PPTFormsOfficer@state.gov.

SUPPLEMENTARY INFORMATION:

• Title of Information Collection: U.S. Passport Renewal Application For Eligible Individuals

• OMB Control Number: 1405-0020

• Type of Request: Revision of a Currently Approved Collection

• Originating Office: Bureau of Consular Affairs, Passport Services, Office of Program Management and Operational Support, Program Coordination Division (CA/PPT/S/PMO/PC)

• Form Number: DS-82

• Respondents: Individuals or Households

• Estimated Number of Respondents: 4,215,761

• Estimated Number of Responses: 4,215,761

• Average Time Per Response: 40 minutes per response

• Total Estimated Burden Time: 2,810,507 hours per year

• Frequency: On occasion

• Obligation to Respond: Required to Obtain or Retain a Benefit

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The information collected on the DS-82 is used to facilitate the issuance of passports to U.S. citizens and nationals. The primary purpose of soliciting the information is to establish citizenship, identity, and entitlement to the issuance of the U.S. passport or related service, and to properly administer and enforce the laws pertaining to the issuance thereof.

The DS-82 solicits data necessary for Passport Services to issue a United States passport (book and/or card format) in the exercise of authorities granted to the Secretary of State in 22 United States Code (U.S.C.) Section 211a et seq. and Executive Order (EO) 11295 (August 5, 1966) for the issuance of passports to U.S. nationals.

The issuance of U.S. passports requires the determination of identity, nationality, and entitlement, with reference to the provisions of Title III of the Immigration and Nationality Act (INA) (8 U.S.C. sections 1401-1504), the 14th Amendment to the Constitution of the United States, other applicable treaties and laws and implementing regulations at 22 CFR Part 50 and 51. The specific regulations pertaining to the Application for a U.S. Passport by Mail are at 22 CFR 51.20 and 51.21.

Methodology: Passport Services collects information from U.S. citizens and non-citizen nationals who complete and submit the Application for a U.S. Passport by Mail. Passport applicants can either download the DS-82 from the Internet or obtain one from an Acceptance Facility/Passport Agency. The form must be completed, signed, and submitted along with the applicant's previous U.S. passport.

U.S. citizens overseas may download the DS-82 from the Internet or obtain one from the nearest U.S. Embassy or Consulate. As noted on the form, U.S. citizens overseas (except Canada) must apply for their passport at the nearest U.S. Embassy or Consulate in accordance with instructions on the Embassy/Consulate Web site.

The Department estimates that these changes will not result in an increase in the current burden time of 40 minutes.

Dated: August 29, 2013.
Brenda S. Sprague,
Deputy Assistant Secretary for Passport Services, Bureau of Consular Affairs, Department of State.

[FR Doc. 2013-22019 Filed 9-9-13; 8:45 am]

BILLING CODE 4710-06-P